DEPARTMENT OF ENERGY

Federal Energy Regulatory Commission

[Docket No. RM07-10-002]

Transparency Provisions of Section 23 of the Natural Gas Act; Notice of Extension of Time

May 24, 2010.

In comments following the March 25, 2010 Technical Conference in the above-referenced proceeding, the Natural Gas Supply Association, Shell Producers,¹ Process Gas Consumers Group, and Independent Petroleum Association of America (Commenters) requested that the Commission extend the deadline for filing the 2009 Form No. 552 for an additional 60 to 90 days from the current deadline of July 1, 2010. The Commenters contend that the additional time will allow filers to prepare the Form No. 552 based on any additional guidance that the Commission will provide in the future.

¹ Shell Gulf of Mexico, Shell Offshore Inc., and SWEPI LP.

Upon consideration, notice is hereby given that all natural gas market participants are granted an extension of time until September 1, 2010 to file their Form No. 552 for calendar year 2009.

Kimberly D. Bose,
Secretary.

[FR Doc. 2010-12995 Filed 5-28-10; 8:45 am]

BILLING CODE 6717-01-P